DEPARTMENT OF DEFENSE

Office of the Secretary

[Docket ID: DoD-2014-OS-0090]

Privacy Act of 1974; System of Records

AGENCY: Office of the Secretary of Defense, DoD.

ACTION: Notice to add a System of Records.

SUMMARY: The Office of the Secretary of Defense is adding a system of records, DHRA 13 DoD, entitled “Defense Travel Management Office (DTMO) Workforce Assessment,” to its inventory of record systems subject to the Privacy Act of 1974, as amended. This system will be used to administer an assessment that will enable the analysis of workforce capabilities and competency gaps within the DTMO organization. The assessment will aid in identifying personnel with competencies necessary to manage programs assigned to the DTMO and meet organizational goals. Data collected will allow for the development of strategies to address human capital needs, close competency gaps, and ensure personnel are appropriately aligned.

DATES: Comments will be accepted on or before July 11, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense.gov/.

The proposed system report, as required by U.S.C. 552a(r) of the Privacy Act of 1974, as amended, was submitted on May 14, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 6, 2014.
Aaron Siegel,
Alternate OSD Federal Register Liaison Officer, Department of Defense.

DHRA 13 DoD

System name:

Defense Travel Management Office (DTMO) Workforce Assessment.

System location:

Network Enterprise Center, 1422 Sultan Road, Fort Detrick, MD 21702-9200.

Back-up: Defense Travel Management Office, 4800 Mark Center Drive, Alexandria, VA 22350-9000.

Categories of individuals covered by the system:

DTMO government civilian employees.

Categories of records in the system:

Full name, current job position and grade, work experience, leadership experience, future job aspirations, subject matter expertise, job-related skills, training received, degrees earned and fields of study, professional licenses and certifications.

Authority for maintenance of the system:

10 U.S.C. 136, Under Secretary of Defense for Personnel and Readiness; DoD Directive 5100.87, Department of Defense Human Resources Activity; and DoD Instruction 5154.31, Commercial Travel Management.

Purpose(s):

To administer an assessment that will enable the analysis of workforce capabilities and competency gaps within the DTMO organization. The assessment will aid in identifying personnel with competencies necessary to manage programs assigned to the DTMO and meet organizational goals. Data collected will allow for the development of strategies to address human capital needs, close competency gaps, and ensure personnel are appropriately aligned.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

The DoD Blanket Routine Uses set forth at the beginning of the Office of the Secretary of Defense (OSD) compilation of systems of records notices may apply to this system of records.

Policies and practices for storing, retrieving, accessing, retaining, and disposing of records in the system:

Storage:

Electronic storage media.

Retrievability:

Records are retrieved by employee's name.

Safeguards:

Records are stored on secure military installations. Physical controls include use of visitor registers and identification badges, electronic key card access, and closed-circuit television monitoring. Technical controls including intrusion detection systems, secure socket layer encryption using DoD Public Key Infrastructure certificates, firewalls, and virtual private networks protect the data in transit and at rest. Physical and electronic access is limited to individuals who are properly screened and cleared on a need-to-know basis in the performance of their official duties. Usernames and passwords and Common Access Cards, in addition to role-based access controls are used to control access to the systems data. Procedures are in place to deter and detect browsing and unauthorized access including periodic security audits and monitoring of users' security practices. Backups are stored on encrypted media and secured off-site.

Retention and disposal:

Temporary. Cut off on completion of project. Destroy 4 years after cut off.

System manager(s) and address:

Deputy Director, Defense Travel Management Office, 4800 Mark Center Drive, Alexandria, VA 22350-9000.

Notification procedure:

Individuals seeking to determine whether information about themselves is contained in this system of records should address signed, written inquiries to the Deputy Director, Defense Travel Management Office, 4800 Mark Center Drive, Alexandria, VA 22350-9000.

Individuals should provide their full name.

Record access procedures:

Individuals seeking access to records about themselves contained in this system of records should address written requests to the OSD/Joint Staff Freedom of Information Act Requester Service Center, Office of Freedom of Information, 1155 Defense Pentagon, Washington, DC 20301-1155.

Signed, written request should include their full name and the name and number of this system of records notice.

Contesting record procedures:

The OSD rules for accessing records, for contesting contents and appealing initial agency determinations are contained in OSD Administrative Instruction 81; 32 CFR part 311; or may be obtained from the system manager.

Record source categories:

Individual.

Exemptions claimed for the system:

None.

[FR Doc. 2014-13610 Filed 6-10-14; 8:45 am]

BILLING CODE 5001-06-P